DEPARTMENT OF THE TREASURY

Community Development Financial Institutions Fund

Open Meeting of the Community Development Advisory Board

AGENCY: Community Development Financial Institutions Fund, Department of the Treasury.

ACTION: Notice of open meeting.

SUMMARY: This notice announces the next meeting of the Community Development Advisory Board (the Advisory Board), which provides advice to the Director of the Community Development Financial Institutions Fund (the CDFI Fund). The meeting will be conducted via telephone conference call.

DATES: The next meeting of the Advisory Board will be held from 2 p.m. to 3:30 p.m. Eastern Time on Wednesday, September 12, 2012.

FOR FURTHER INFORMATION CONTACT: The Office of Public and Legislative Affairs of the CDFI Fund, 1500 Pennsylvania Avenue NW., Washington, DC 20220, (202) 622-8042 (this is not a toll free number). Other information regarding the CDFI Fund and its programs may be obtained through the CDFI Fund's Web site at http://www.cdfifund.gov. Public participation will be limited to 50 individual phone lines. Notification of intent to attend the meeting must be made via email to advisoryboard@cdfi.treas.gov. The CDFI Fund will send confirmation of attendance and instructions on accessing the meeting to the first 50 individuals who submit notifications of intent.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board does not advise the CDFI Fund on approving or declining any particular application for monetary or non-monetary awards. The Advisory Board meets at least annually.

It has been determined that this document is not a major rule as defined in Executive Order 12291 and therefore regulatory impact analysis is not required. In addition, this document does not constitute a rule subject to the Regulatory Flexibility Act (5 U.S.C. Chapter 6).

The next meeting of the Advisory Board, all of which will be open to the public, will be held from 2 p.m. to 3:30 p.m. Eastern Time on Wednesday, September 12, 2012 via a telephone conference call. Public participation will be limited to 50 individual phone lines. Notification of intent to attend the meeting must be made via email to advisoryboard@cdfi.treas.gov. The CDFI Fund will send confirmation of attendance and instructions on accessing the meeting to the first 50 individuals who submit notifications of intent. For more information, please call (202) 622-8042.

Participation in the discussions at the meeting will be limited to Advisory Board members, Department of the Treasury staff, and certain invited guests. Anyone who would like to have the Advisory Board consider a written statement must submit it to the Office of Legislative and External Affairs, CDFI Fund, 1500 Pennsylvania Avenue NW., Washington, DC 20220, by 5 p.m. Eastern Time on Tuesday, September 4, 2012.

Authority: 12 U.S.C. 4703; Chapter X, Pub. L. 104-19, 109 Stat. 237.

Dated: August 16, 2012.
Donna J. Gambrell,
Director, Community Development Financial Institutions Fund.

[FR Doc. 2012-20860 Filed 8-23-12; 8:45 am]

BILLING CODE 4810-70-P